DEPARTMENT OF TRANSPORTATION

National Highway Traffic Safety Administration

[Docket No. NHTSA-2021-0068]

Agency Information Collection Activities; Submission to the Office of Management and Budget for Review and Approval; Request for Comment; Petitions for Hearings on Notification and Remedy of Defects

AGENCY: National Highway Traffic Safety Administration (NHTSA), Department of Transportation (DOT).

ACTION: Notice and request for comments on a request for extension of a currently approved information collection.

SUMMARY: In compliance with the Paperwork Reduction Act of 1995 (PRA), this notice announces that the Information Collection Request (ICR) summarized below will be submitted to the Office of Management and Budget (OMB) for review and approval. The ICR describes the nature of the information collection and its expected burden. This ICR is for a request for extension of NHTSA's currently approved information collection for petitions for hearings on notification and remedy of defects. A Federal Register Notice with a 60-day comment period soliciting comments on the ICR was published on January 18, 2022. No comments were received.

DATES: Comments must be submitted on or before April 29, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Nicholas LaBruna, Recall Management Division (NEF-107), Room W46-438, NHTSA, 1200 New Jersey Ave. SE, Washington, DC 20590. Telephone: (202) 366-1781. Please identify the relevant collection of information by referring to its OMB Control Number (2127-0039).

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Petitions for Hearings on Notification and Remedy of Defects.

OMB Control Number: 2127-0039.

Form Numbers(s): N/A.

Type of Request: Extension of a currently approved information collection.

Type of Review Requested: Regular.

Requested Expiration Date of Approval: 3 Years from the date of approval.

Summary of the Collection of Information: NHTSA reviews filed complaints from vehicle owners and other information related to alleged defects or noncompliances to decide whether to open an investigation. Should a manufacturer determine or NHTSA decide, through testing, inspection, investigation or research, that a motor vehicle or motor vehicle equipment contains a defect related to motor vehicle safety or does not comply with an applicable Federal motor vehicle safety standard (FMVSS), Section 30118 of title 49 of the United States Code requires the manufacturer of motor vehicles or replacement equipment to notify NHTSA, owners, purchasers, and dealers of the safety defect or noncompliance. Section 30120 requires the manufacturer to remedy, without charge, the defect or non-compliance and specifies the ways in which a noncompliance or defect can be remedied. Sections 30118(e) and 30120(e) of title 49 specify that any interested person may petition the Secretary of Transportation (NHTSA by delegation) to hold a hearing to determine whether a manufacturer of motor vehicles or motor vehicle equipment has reasonably met its obligation to notify owners, purchasers, and dealers of vehicles or equipment of a safety-related defect or noncompliance with a FMVSS in the manufacturer's products and to remedy that defect or noncompliance.

To implement these statutory provisions, NHTSA promulgated 49 CFR part 557, Petitions for Hearings on Notification and Remedy of Defects. Part 557 establishes procedures for the submission and disposition of petitions for hearings on the issues of whether the manufacturer has reasonably met its obligation to notify owners, purchasers, and dealers of safety-related defects or noncompliance, or to remedy such defect or noncompliance free of charge.

Description of the Need for the Information and Proposed Use of the Information: Persons who believe that a manufacturer has been deficient in notifying owners, purchasers, or dealers of a safety related defect or noncompliance with FMVSS, or has not remedied the problem in accordance with statutory requirements, may petition the agency pursuant to 49 CFR part 557. The agency uses the information collected in the petition, and may use other information available to it, to determine whether a hearing is necessary to determine whether a manufacturer has reasonably met its obligation to notify owners, purchasers, and dealers of the safety defect or noncompliance with FMVSS, or to remedy that defect or noncompliance. Should the agency, on the basis of information provided at that hearing or other information, determine the manufacturer has not reasonably met its obligations, the agency orders the manufacturer to take specified action to bring itself into compliance with those obligations.

60-Day Notice: A Federal Register notice with a 60-day comment period soliciting public comments on the following information collection was published on January 18, 2022 (87 FR 2664). No comments were received.

Affected Public: Businesses or other interested persons.

Estimated Number of Respondents: 1 respondent.

Frequency: On occasion.

Estimated Total Annual Burden Hours: 1 hour.

When NHTSA last sought approval for the extension of this information collection, the agency estimated it would receive one petition a year and estimated that, with an estimated one hour of preparation time for each petition, the total annual burden for this collection would be 1 hour. The agency now believes that a more accurate estimate would be 0 petitions and 0 burden hours each year, based on the agency not receiving of any such petitions submitted in recent years. However, NHTSA continues to estimate that the time to prepare a petition is 1 hour and, to account for the possibility of receiving a petition in a given year, NHTSA estimates the total annual burden of this collection to be 1 hour (1 petition × 1 hour to prepare).

Estimated Total Annual Burden Cost: $7.95.

NHTSA estimates that the only cost burden to respondents (i.e., petitioners) except for the time invested (opportunity cost) associated with the time to submit the petition will be postage costs. NHTSA estimates that each mailed response is estimated to cost $7.95 (priority flat rate envelope from USPS). Therefore, the total cost for the estimated 1 request per year is $7.95.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. chapter 35, as amended; 49 CFR 1.49; and DOT Order 1351.29.

Stephen Ridella,
Director, Office of Defects Investigation, NHTSA.

[FR Doc. 2022-06728 Filed 3-29-22; 8:45 am]

BILLING CODE P